DEPARTMENT OF HEALTH AND HUMAN SERVICES

National Institutes of Health

Proposed Collection; Comment Request; National Institute of Diabetes and Digestive and Kidney Diseases Information Clearinghouses Customer Satisfaction Survey

SUMMARY: In compliance with the requirement of Section 3506(c)(2)(A) of the Paperwork Reduction Act of 1995 to provide opportunity for public comment on proposed data collection projects, the National Institute of Diabetes and Digestive and Kidney Diseases (NIDDK), the National Institutes of Health (NIH), is giving public notice that the agency proposes to request reinstatement of an information collection activity for which approval expired on February 28, 2010.

Proposed Collection: Title: NIDDK Information Clearinghouses Customer Satisfaction Survey. Type of Information Requested: Reinstatement, with change, of a previously approved collection for which approval has expired. The OMB control number 0925-0480 expired on February 28, 2010. Need and Use of Information Collection: NIDDK is conducting a survey to assess the efficiency and effectiveness of services provided by NIDDK's three clearinghouses: The National Diabetes Information Clearinghouse (NDIC); the National Digestive Diseases Information Clearinghouse (NDDIC); and the National Kidney and Urologic Diseases Information Clearinghouse (NKUDIC). The survey responds to Executive Order 12821, “Setting Customer Service Standards,” which requires agencies and departments to identify and survey their “customers to determine the kind and quality of service they want and their level of satisfaction with existing services.” Frequency of Response: On occasion. Affected Public: Individuals or households; business and for profit organizations; not-for-profit agencies.

Type of Respondents: Physicians, health care professionals, patients, family and friends of patients.

The annual reporting burden is as follows: Estimated number of respondents: 7,079; estimated number of responses per respondent: 1; estimated average burden hours per response: 0.025; and estimated total annual burden hours requested: 177. The annualized cost to respondents is estimated at $3,793.00. There are no capital costs to report. There are no operating or maintenance costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection reports and instrument, contact Kathy Kranzfelder, Director, NIDDK Office of Communications and Public Liaison, Building 31, Room 9A06, MSC2560, Bethesda, MD 20852 or e-mail your request, including your address to: KranzfelderK@mail.nih.gov.

Comments Due Date: Comments regarding this information collection are best assured of having their full effect if received within 60 days of the date of this publication.

Dated: July 6, 2010.
Lynell Nelson, NIDDK,
Project Clearance Liaison, National Institutes of Health.

[FR Doc. 2010-17581 Filed 7-16-10; 8:45 am]

BILLING CODE 4140-01-P